NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 17, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-01-20, 7 items, 6 temporary items). Records relating to the management of models and simulations. Included are records documenting standards and requirements development, board and working group proceedings, improvement proposals, and domain management. Also included are electronic copies of documents created using electronic mail and word processing. Proposed for permanent retention are recordkeeping copies of policy and program management reports, which include such records as standards reports, master plans, and acquisition and training guidelines. This schedule authorizes the agency to apply the proposed disposition instructions to any recordkeeping medium.

2. Department of the Army, Agency-wide (N1-AU-03-1, 2 items, 2 temporary items). Electronic master files and outputs/reports relating to child and spouse abuse. A copy of the master file becomes part of a Department of Defense database that was previously approved for permanent retention.

3. Department of the Army, Agency-wide (N1-AU-03-02, 2 items, 2 temporary items). Master files and reports associated with the Groups Operational Passenger System. Records contain information regarding the receipt and processing of group movement requests and associated offers of service from the commercial carrier industry. This schedule authorizes the agency to apply the proposed disposition instructions to any recordkeeping medium.

4. Department of Defense, Office of the Inspector General (N1-509-03-1, 2 items, 1 temporary item). Criminal investigation case files. This schedule modifies slightly the previously approved selection criteria for permanent case files and also increases the retention period for files that lack historical significance, which were previously scheduled for disposal.

5. Department of Defense, Defense Security Service (N1-446-03-2, 14 items, 14 temporary items). Records relating to international programs. Records relate to such matters as trips, foreign government contacts and liaison assignments, transportation plans, security violations, secured communications, and security briefings. Also included are electronic copies of documents created using electronic mail and word processing. This schedule authorizes the agency to apply the proposed disposition instructions to any recordkeeping medium.

6. Department of Health and Human Services, Centers for Medicare and Medicaid Services (N1-440-00-5, 10 items, 7 temporary items). Records of the Office of Actuary relating to national expenditures for health-related goods and services, including paper and electronic source records and a web version of the annual report. Also included are electronic copies of records created using electronic mail and word processing. Proposed for permanent retention are electronic data files, annual reports, and system documentation.

7. Department of Interior, U.S. Geological Survey (N1-57-03-1, 46 items, 27 temporary items). Audiovisual records, geospatial data, cartographic records, remote sensing records, architectural drawings, engineering records, and publishing records. Included are such materials as miscellaneous general interest photographs, duplicate video prints, surveillance recordings, pre-mix sound elements and sound library recordings, unaltered or minimally altered data layers and non-significant data layers, contract negotiation drawings, publication approval records, copyright files, manuscripts, working papers and background materials, publications research records, information products management files, unofficial information products, and electronic files and artwork used in publishing. Also included are electronic copies of records created using electronic mail, spreadsheet, and word processing applications. Proposed for permanent retention are such records as mission-related photographs, motion pictures, stock footage, video recordings, audio recordings, geospatial data sets, and remote sensing records.

8. Department of Justice, Civil Rights Division (N1-60-03-3, 5 items, 2 temporary items). Inputs and outputs of the Case Management System, which is used for tracking investigations and cases. Proposed for permanent retention are the master files of the database (both the public-use and full-text versions) and the associated system documentation.

9. Department of Justice, Federal Bureau of Investigation (N1-65-03-1, 2 items, 2 temporary items). Work papers relating to financial management audits and electronic data processing audits. Also included are electronic copies of records created using word processing and electronic mail.

10. Administrative Office of the U.S. Courts, Office of Internal Services (N1-116-03-3, 5 items, 4 temporary items). Briefing book background materials and appropriations hearing correspondence files. Included are such records as statements, questions prepared by program offices, and correspondence with judges and others relating to judicial appropriations. Also included are electronic copies of documents created using electronic mail and word processing. Recordkeeping copies of House and Senate hearings briefing books are proposed for permanent retention.

11. Commission on Affordable Housing and Health Facility Needs for Seniors in the 21st Century, Agency-wide (N1-220-03-3, 20 items, 11 temporary items). Audio cassette copies of meeting minutes and hearings used solely for making transcripts, administrative general correspondence, staff working papers, copies of contracts, reference materials, electronic copies created using electronic mail and word processing, and the Commission's web site. Recordkeeping copies of such files as meeting minutes, Commissioners' working papers, task force records, reports and studies, hearing transcripts, press releases, and photographs are proposed for permanent retention.

12. Environmental Protection Agency, Office of Pollution, Prevention, and Toxics (N1-412-01-11, 3 items, 2 temporary items). Paper records relating to regulating chemical or chemical mixtures under Section 6 of the Toxic Substances Control Act that have been microfilmed. Also included are electronic copies of documents created using electronic mail and word processing. Microfilm copies and paper records that have not been filmed are proposed for permanent retention.

13. Executive Office of the President, Office of Management and Budget (N1-51-03-2, 8 items, 1 temporary item). Backup tapes of electronic mail of the Management Division, the Office of Federal Procurement Policy, and the Health and Income Maintenance Division. Master files of messages and the related indexes and documentation are proposed for permanent retention.

14. National Bioethics Advisory Commission, Agency-wide (N1-220-01-6, 13 items, 5 temporary items). Copies of materials used solely for answering requests, reference materials, electronic copies created using electronic mail and word processing, and the Commission's web site. Proposed for permanent retention are recordkeeping copies of such files as the Commission's final report, surveys, hearing transcripts, correspondence, and meeting minutes.

15. Tennessee Valley Authority, Fossil Power Group (N1-142-03-2, 15 items, 15 temporary items). Records documenting the operation and maintenance of generators and auxiliary equipment at fossil power plants. Records relate to such matters as meter readings, temperature and pressure points, electrical power distribution, and inspections. Also included are electronic copies of documents created using electronic mail and word processing.

Dated: January 22, 2003.
Michael J. Kurtz,
Assistant Archivist for Record Services,—Washington, DC.

[FR Doc. 03-2114 Filed 1-29-03; 8:45 am]

BILLING CODE 7515-01-P